DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 26, 2005.

Interested persons are invited to submit written comments regarding the subject matter of the investigations to the Director, Division of Trade Adjustment Assistance, at the address shown below, not later than May 26, 2005.

The petitions filed in this case are available for inspection at the Office of the Director, Division of Trade Adjustment Assistance, Employment and Training Administration, U.S. Department of Labor, Room C-5311, 200 Constitution Avenue, NW., Washington, DC 20210.

Signed at Washington, DC, this 27th day of April, 2005.
Timothy Sullivan,
Director, Division of Trade Adjustment Assistance.

Appendix
[Petitions instituted between 04/04/2005 and 04/22/2005]
TA-W | Subject firm (petitioners) | Location | Date of institution | Date of petition
56,871 | Block Corporation (Wkrs) | Amory, MS | 04/04/2005 | 03/23/2005
56,872 | EMF Corporation (Wkrs) | Angola, IN | 04/04/2005 | 03/24/2005
56,873 | Federal-Mogul (Wkrs) | Blacksburg, VA | 04/04/2005 | 03/23/2005
56,874 | Valley Fashion Apparel, LLC (Comp) | Oneonta, NY | 04/04/2005 | 04/01/2005
56,875 | Telect, Inc. (Comp) | Plano, TX | 04/04/2005 | 03/30/2005
56,876 | American Wood Moulding LLC (NPW) | El Paso, TX | 04/04/2005 | 03/30/2005
56,877 | Don Pluid Logging (Comp) | Eureka, MT | 04/05/2005 | 03/29/2005
56,878 | York Capacitor (Comp) | Winooski, VT | 04/05/2005 | 03/29/2005
56,879 | Integrated Device Technology, Inc. (Wkrs) | Salinas, CA | 04/05/2005 | 03/17/2005
56,880 | Sanford North America (Comp) | Santa Monica, CA | 04/05/2005 | 03/24/2005
56,881 | James Jet Corporation (Comp) | Eureka, MT | 04/05/2005 | 03/18/2005
56,882 | Carlisle Power Transmission (State) | Red Wing, MN | 04/05/2005 | 03/31/2005
56,883 | General Motors Corp. (State) | Warren, MI | 04/05/2005 | 03/28/2005
56,884 | Ben F. Davis Company (Wkrs) | San Francisco, CA | 04/05/2005 | 03/23/2005
56,885 | Continental Tire North America (Wkrs) | Akron, OH | 04/06/2005 | 04/04/2005
56,886 | MCI (Wkrs) | Humble, TX | 04/06/2005 | 04/01/2005
56,887 | Century Moulding Co. (State) | Hood River, OR | 04/06/2005 | 03/30/2005
56,888 | Nelson Hosiery (Comp) | Fort Payne, AL | 04/07/2005 | 03/28/2005
56,889 | Metso Minerals Industries, Inc. (Comp) | Keokuk, IA | 04/07/2005 | 04/05/2005
56,890 | Wellington Cordage, LLC (Comp) | Pilot Mountain, NC | 04/07/2005 | 03/08/2005
56,891 | F.L. Smidth, Inc. (Comp) | Catasauque, PA | 04/07/2005 | 04/06/2005
56,892 | GE Engine Services-Dallas LP (NPW) | Dallas, TX | 04/07/2005 | 04/06/2005
56,893 | Dayton Superior Corporation (Comp) | Tremont, PA | 04/07/2005 | 03/16/2005
56,894 | Thor America, Inc. (IAMAW) | Middleburg, PA | 04/07/2005 | 03/09/2005
56,895 | Ocean Star Manufacturing (Wkrs) | Fullerton, CA | 04/07/2005 | 03/07/2005
56,896 | Commercial Carrier (Wkrs) | Honea Path, SC | 04/07/2005 | 04/05/2005
56,897 | Square D Company (Comp) | Asheville, NC | 04/07/2005 | 04/06/2005
56,898 | Eastman Chemical Co. Arkansas Operations (State) | Batesville, AR | 04/07/2005 | 03/31/2005
56,899 | Murray, Inc. (Comp) | Brentwood, TN | 04/07/2005 | 03/31/2005
56,900 | Ken-Weld Co., Inc. (Comp) | Worcester, MA | 04/07/2005 | 04/01/2005
56,901 | Chiller Components, Inc. (Comp) | Sutton, MA | 04/07/2005 | 04/01/2005
56,902 | Gonzales Technologies (Wkrs) | Paris, TN | 04/07/2005 | 03/29/2005
56,903 | Milwaukee Sign (State) | Grafton, WI | 04/07/2005 | 03/31/2005
56,904 | Renfro Corp. (Wkrs) | Star, NC | 04/07/2005 | 04/01/2005
56,905 | Lane Co., Inc. (The) (Wkrs) | Altavista, VA | 04/07/2005 | 04/05/2005
56,906 | Celestica Corporation (Comp) | Fort Collins, CO | 04/07/2005 | 03/21/2005
56,907 | Energy Conversion Systems (Comp) | Dunn, NC | 04/07/2005 | 04/04/2005
56,908 | Stoneridge Control Devices (4/7/20) | Boston, MA | 04/07/2005 | 03/30/2005
56,909 | Scepter Hardwoods, Inc. (Comp) | Sparta, TN | 04/07/2005 | 03/31/2005
56,910 | Carolina Mills, Inc. (Comp) | Gastonia, NC | 04/07/2005 | 04/01/2005
56,911 | Joyner Manufacturing (Wkrs) | Louisburg, NC | 04/07/2005 | 03/30/2005
56,912 | Comarco Wireless Technologies (State) | Irvine, CA | 04/07/2005 | 03/30/2005
56,913 | Modern Case Co., Inc. (State) | Ewen, MI | 04/07/2005 | 03/24/2005
56,914 | Nova Knits, Inc. (Wkrs) | San Francisco, CA | 04/07/2005 | 03/30/2005
56,915 | Lubrizol Corporation (The) (Wkrs) | Mountaintop, PA | 04/07/2005 | 04/01/2005
56,916 | Addison Shoe Co. (State) | Wynne, AR | 04/07/2005 | 03/31/2005
56,917 | S&H Precision Mfg. Co., Inc. (Comp) | Newmarket, NH | 04/07/2005 | 03/25/2005
56,918 | Parker-Hennifin Auto. Connection Div. (State) | Trumann, AR | 04/07/2005 | 04/04/2005
56,919 | M and B Metal Products Co., Inc. (Comp) | South Hill, VA | 04/07/2005 | 03/31/2005
56,920 | Tenneco Automotive (Comp) | Hartwell, GA | 04/07/2005 | 03/29/2005
56,921A | Elk Brand Mfg. Co., Inc. (Comp) | Hopkinsville, KY | 04/07/2005 | 03/31/2005
56,921 | Elk Brand Mfg. Co., Inc. (Comp) | Hopkinsville, KY | 04/07/2005 | 03/31/2005
56,922 | Anthony and Company (IBT) | Escanaba, MI | 04/07/2005 | 04/05/2005
56,923 | EMP (IBT) | Escanaba, MI | 04/07/2005 | 04/05/2005
56,924 | Lustar Dyeing and Finishing, Inc. (Comp) | Asheville, NC | 04/07/2005 | 04/06/2005
56,925 | Osram Sylvania, Inc. (IUECWA) | St. Marys, PA | 04/07/2005 | 04/06/2005
56,926 | Flynn, LLC (Wkrs) | Central City, KY | 04/07/2005 | 04/07/2005
56,927 | Black's Frame's, Inc. (Comp) | Lincolnton, NC | 04/08/2005 | 04/06/2005
56,928 | CDS Ensembles, Inc. (Comp) | Greer, SC | 04/08/2005 | 04/07/2005
56,929 | Owens and Bray, Inc. (NPC) | Kalispell, MT | 04/08/2005 | 04/05/2005
56,930 | Fiberall, Inc. (Comp) | Greer, SC | 04/11/2005 | 04/07/2005
56,931 | WestPoint Stevens, Inc. (Comp) | Sparks, NV | 04/11/2005 | 04/11/2005
56,932 | Blind Maker (The) (Comp) | Irving, TX | 04/11/2005 | 03/30/2005
56,933 | Michael Anthony Jewlers, Inc. (Wkrs) | Mt. Vernon, NY | 04/11/2005 | 03/29/2005
56,934 | Lennox Hearth Products (IAM) | Burlington, WA | 04/11/2005 | 04/08/2005
56,935A | Mile High Textiles, LLC (Comp) | Shelby, NC | 04/11/2005 | 04/07/2005
56,935 | Mile High Textiles, LLC (Comp) | Denver, CO | 04/11/2005 | 04/07/2005
56,936 | Allied Personnel Services (NPW) | Bethlehem, PA | 04/11/2005 | 04/05/2005
56,937 | Uniboard Fostoria, Inc. (Wkrs) | Fostoria, OH | 04/11/2005 | 03/31/2005
56,938 | Fab-Knit, Ltd. (Comp) | Waco, TX | 04/11/2005 | 04/05/2005
56,939 | Blue Ridge Crest, LLC (Wkrs) | Galax, VA | 04/11/2005 | 04/08/2005
56,940 | Buffalo Plastics, Inc. (Wkrs) | Meadville, PA | 04/11/2005 | 04/08/2005
56,941 | AGI/Schutz (Wkrs) | Forest City, NC | 04/11/2005 | 04/04/2005
56,942 | Stoneridge, Inc. (Comp) | El Paso, TX | 04/11/2005 | 04/07/2005
56,943 | Sun Look Garment, Inc. (Wkrs) | San Francisco, CA | 04/11/2005 | 04/07/2005
56,944 | Johnson Controls, Inc. (IBEW) | Goshen, IN | 04/11/2005 | 04/06/2005
56,945 | Pentair, Inc. (Comp) | Long Beach, CA | 04/11/2005 | 04/05/2005
56,946 | UITS Support Center (NPW) | Universal City, CA | 04/11/2005 | 03/30/2005
56,947 | Morad Manufacturing, Inc. (Comp) | Sikeston, MO | 04/11/2005 | 03/30/2005
56,948A | Standard Commercial Corporation (Comp) | Wilson, NC | 04/13/2005 | 03/25/2005
56,948B | Standard Commercial Corporation (Comp) | Wilson, NC | 04/13/2005 | 03/25/2005
56,948 | Standard Commercial Corporation (Comp) | Wilson, NC | 04/13/2005 | 03/25/2005
56,949 | Pemstar (Comp) | Taunton, MA | 04/13/2005 | 03/11/2005
56,950 | C and J Cutting, Inc. (Comp) | Fall River, MA | 04/13/2005 | 04/13/2005
56,951 | Nicole Corporation (Wkrs) | Cleveland, OH | 04/13/2005 | 03/23/2005
56,952 | Sierra Military Health Services (State) | Baltimore, MD | 04/13/2005 | 03/25/2005
56,953 | Rods Indiana, Inc. (Comp) | Butler, IN | 04/13/2005 | 03/14/2005
56,954 | Bama Spinning, Inc. (Comp) | Henagar, AL | 04/13/2005 | 01/31/2005
56,955 | Brookwood Medical Center (NPW) | Birmingham, AL | 04/13/2005 | 03/14/2005
56,956 | Royal Cord, Inc. (Wkrs) | Thomaston, GA | 04/14/2005 | 04/04/2005
56,957 | Kone, Inc. (Wkrs) | McKinney, TX | 04/14/2005 | 03/31/2005
56,958 | Gerdau Ameristeel (State) | Perth Amboy, NJ | 04/14/2005 | 04/12/2005
56,959 | Tyler Pipe (USWA) | Tyler, TX | 04/14/2005 | 04/11/2005
56,960 | Kern Manufacturing (State) | Neoga, IL | 04/14/2005 | 04/12/2005
56,961 | Nortech, Inc. (State) | Bemidgi, MN | 04/14/2005 | 04/11/2005
56,962 | Hornwood, Inc. (Comp) | New York, NY | 04/14/2005 | 04/11/2005
56,963 | Medsep (Wkrs) | Covina, CA | 04/14/2005 | 04/12/2005
56,964 | Hartmann-Canco, Inc. (Comp) | Rock Hill, SC | 04/14/2005 | 04/07/2005
56,965 | FMC Corp. (State) | Green River, WY | 04/14/2005 | 04/12/2005
56,966 | U.S. Amps, Inc. (State) | Gainesville, FL | 04/14/2005 | 04/08/2005
56,967 | VWR International (NPS) | Salem, OR | 04/14/2005 | 04/11/2005
56,968 | Ames/True Temper (Wkrs) | North Vernon, IN | 04/14/2005 | 03/14/2005
56,969 | ESCO Integrated Manufacturing (Comp) | Tempe, AZ | 04/14/2005 | 03/29/2005
56,970 | Delta Galil USA, Inc. (Comp) | Williamsport, PA | 04/14/2005 | 04/06/2005
56,971 | Lenox China (State) | Pomona, NJ | 04/14/2005 | 04/13/2005
56,972 | KAC Holdings (Comp) | Des Plaines, IL | 04/14/2005 | 03/29/2005
56,973 | J.J.'s Mae (Comp) | Brisbane, CA | 04/14/2005 | 04/01/2005
56,974 | Max Marx Color Corporation (State) | Irvington, NJ | 04/15/2005 | 04/14/2005
56,975 | U.S. Marine (Comp) | Spokane, WA | 04/15/2005 | 04/13/2005
56,976 | UFE, Inc. (State) | Stillwater, MN | 04/15/2005 | 04/14/2005
56,977 | Telemarketing Concepts, Inc. (NPW) | Jacksonville, NC | 04/15/2005 | 04/12/2005
56,978 | Rycenga Home, Inc. (Wkrs) | Spring Lake, MI | 04/15/2005 | 03/28/2005
56,979 | Auburn Foundry (GMP) | Auburn, IN | 04/15/2005 | 04/07/2005
56,980 | Tecumseh Power (IAMAW) | New Holstein, WI | 04/15/2005 | 04/11/2005
56,981 | Source Electronics Corporation (NPC) | Hollis, NH | 04/15/2005 | 04/06/2005
56,982 | Cooper Wiring Devices (UAW) | Long Island, NY | 04/15/2005 | 04/11/2005
56,983 | C.H. Patrick and Co., Inc. (Wkrs) | Greenville, SC | 04/15/2005 | 04/07/2005
56,984 | Robert Bosch Corp. (UAW) | St. Joesph, MI | 04/15/2005 | 04/11/2005
56,985 | Oneida Ltd. (Comp) | Sherrill, NY | 04/18/2005 | 04/06/2005
56,986 | BASF (Wkrs) | Beaumont, TX | 04/18/2005 | 04/04/2005
56,987 | Hitachi Global Service Technology (Wkrs) | San Jose, CA | 04/18/2005 | 04/04/2005
56,988 | Acuity Brands Lighting, Inc. (State) | Berkeley, CA | 04/18/2005 | 04/04/2005
56,989 | Southwest Marine (Comp) | Terminal Island, CA | 04/18/2005 | 04/01/2005
56,990 | Joyner Manufacturing Co., Inc. (Comp) | Louisburg, NC | 04/18/2005 | 04/07/2005
56,991 | Graham Packaging (GMP) | St. Louis, MO | 04/18/2005 | 04/06/2005
56,992 | Robert Bosch Corp. (UAW) | Wooster, OH | 04/18/2005 | 04/07/2005
56,993A | Springs Industries, Inc. (Comp) | Fort Lawn, SC | 04/18/2005 | 04/16/2005
56,993B | Springs Industries, Inc. | Fort Lawn, SC | 04/18/2005 | 04/16/2005
56,993 | Springs Industries, Inc. (Comp) | Lancaster, SC | 04/18/2005 | 04/16/2005
56,994 | Chan-X of California (Comp) | San Jose, CA | 04/18/2005 | 03/23/2005
56,995 | Crotty (Wkrs) | Celina, TN | 04/18/2005 | 04/08/2005
56,996 | Alcoa (Comp) | Auburn, IN | 04/18/2005 | 04/12/2005
56,997 | Cinergy Solutions of Rock Hill (Comp) | Rock Hill, SC | 04/18/2005 | 04/05/2005
56,998 | Nestle USA (Wkrs) | St. Louis, MO | 04/18/2005 | 04/15/2005
56,999 | Deringer—Ney, Inc. (Comp) | Mundelein, IL | 04/18/2005 | 04/12/2005
57,000 | Tobacco Valley Lumber (Comp) | Kalispell, MT | 04/18/2005 | 03/15/2005
57,001 | R. Twining and Co., Ltd. (Comp) | Greensboro, NC | 04/18/2005 | 04/15/2005
57,002 | GeRay Fabrics, Inc. (Comp) | New York, NY | 04/19/2005 | 04/18/2005
57,003 | Richloom Home Fashions, Bailey Plant (Wkrs) | Clinton, SC | 04/19/2005 | 04/13/2005
57,004 | Monte Glove Company (Wkrs) | Maben, MS | 04/19/2005 | 04/06/2005
57,005 | Burnes Group, LLC (Comp) | Claremont, NH | 04/19/2005 | 04/14/2005
57,006 | AMETEK, Commercial Motor Div. (Comp) | Racine, WI | 04/19/2005 | 04/19/2005
57,007 | AMETEK (Comp) | Sellersville, PA | 04/19/2005 | 04/15/2005
57,008 | Caldwell VSR, Inc. (State) | Weslaco, TX | 04/19/2005 | 04/19/2005
57,009 | New Age Intimates, Inc. (Comp) | Long Island Cit, NY | 04/19/2005 | 03/21/2005
57,010 | Gwinn Agency (The) (Comp) | Spartanburg, SC | 04/19/2005 | 04/15/2005
57,011 | Eastman Kodak Company (Comp) | Rochester, NY | 04/19/2005 | 04/13/2005
57,012 | Springs Industries (Comp) | Reno, NV | 04/19/2005 | 04/07/2005
57,013 | Fiberzone Technologies (Comp) | Adamsville, TN | 04/19/2005 | 03/14/2005
57,014 | Tyler Refrigeration (UAW) | Wasahachie, TX | 04/19/2005 | 03/21/2005
57,015 | Honeywell (Wkrs) | Pawtucket, RI | 04/20/2005 | 04/19/2005
57,016 | Smurfit Stone (Wkrs) | Statesville, NC | 04/20/2005 | 04/19/2005
57,017 | Carhartt, Inc. (Comp) | Marrowbone, KY | 04/20/2005 | 04/20/2005
57,018 | Cedar Creek Corp. (Comp) | High Point, NC | 04/20/2005 | 04/19/2005
57,019 | Corona Clipper, Inc. (Comp) | Corona, CA | 04/20/2005 | 04/20/2005
57,020 | Getinge Sourcing, LCC (IAMAW) | Rochester, NY | 04/21/2005 | 04/13/2005
57,021 | Plastic Molding Company, LLC (Wkrs) | Cincinnati, OH | 04/21/2005 | 04/12/2005
57,022 | Rohm and Haas Bayport (State) | LaPorte, TX | 04/21/2005 | 04/20/2005
57,023 | Exxon Mobil (State) | Dallas, TX | 04/21/2005 | 04/11/2005
57,024 | Bank of America (State) | San Francisco, CA | 04/21/2005 | 04/12/2005
57,025 | AGC Automotive (Wkrs) | Mt. Pleasant, TN | 04/21/2005 | 03/23/2005
57,026 | Cape Shoe Company (Comp) | Cape Girardeau, MO | 04/21/2005 | 04/19/2005
57,027 | Chamberlain Commercial Products, Inc. (Com) | Lake Forest, CA | 04/21/2005 | 04/18/2005
57,028 | Rockford Powertrain (State) | Loves Park, IL | 04/21/2005 | 04/18/2005
57,029 | Hamilton Sundstrand (Comp) | Grand Junction, CO | 04/22/2005 | 04/18/2005
57,030 | Dorby Frock (State) | New York, NY | 04/22/2005 | 04/15/2005
57,031 | Pilling/Weck Closure (Comp) | Horsham, PA | 04/22/2005 | 04/20/2005
57,032 | Symbol Technologies (Wkrs) | Lake Forest, CA | 04/22/2005 | 04/20/2005

[FR Doc. E5-2407 Filed 5-13-05; 8:45 am]

BILLING CODE 4510-30-P